DEPARTMENT OF ENERGY

Federal Energy Regulatory Commission

Combined Notice of Filings #1

Take notice that the Commission received the following electric corporate filings:

Docket Numbers: EC24-55-000.

Applicants: EAM Nelson Holding, LLC, Entergy Power, LLC, EWO Marketing, LLC.

Description: Joint Application for Authorization Under Section 203 of the Federal Power Act of EAM Nelson Holding, LLC, et al.

Filed Date: 2/28/24.

Accession Number: 20240228-5276.

Comment Date: 5 p.m. ET 3/20/24.

Take notice that the Commission received the following electric rate filings:

Docket Numbers: ER24-1391-000.

Applicants: Arizona Public Service Company.

Description: Baseline eTariff Filing: Reserve Energy Master Tariff to be effective 5/1/2024.

Filed Date: 3/1/24.

Accession Number: 20240301-5293.

Comment Date: 5 p.m. ET 3/22/24.

Docket Numbers: ER24-1392-000.

Applicants: Black Mesa Interconnection, LLC.

Description: Request for Waiver of Black Mesa Interconnection, LLC.

Filed Date: 2/29/24.

Accession Number: 20240229-5348.

Comment Date: 5 p.m. ET 3/21/24.

Docket Numbers: ER24-1393-000.

Applicants: Public Service Company of New Mexico.

Description: Compliance filing: PNM Compliance Filing with Order No. 2023 to be effective 3/2/2024.

Filed Date: 3/1/24.

Accession Number: 20240301-5337.

Comment Date: 5 p.m. ET 3/22/24.

Docket Numbers: ER24-1394-000.

Applicants: DCR Transmission, L.L.C.

Description: 205(d) Rate Filing: DCR Transmission Request to Extend Effective Date Filing to be effective 3/8/2024.

Filed Date: 3/4/24.

Accession Number: 20240304-5001.

Comment Date: 5 p.m. ET 3/25/24.

Docket Numbers: ER24-1395-000.

Applicants: California Independent System Operator Corporation.

Description: 205(d) Rate Filing: 2024-03-01 Planning Coordinator Agmt Amendmts—CEII & Privileged Treatment Req to be effective 3/5/2024.

Filed Date: 3/4/24.

Accession Number: 20240304-5003.

Comment Date: 5 p.m. ET 3/25/24.

Docket Numbers: ER24-1396-000.

Applicants: Massachusetts Electric Company.

Description: 205(d) Rate Filing: 2023 Rate Update Filing for Massachusetts Electric Borderline Sales Agreement to be effective 1/1/2023.

Filed Date: 3/4/24.

Accession Number: 20240304-5011.

Comment Date: 5 p.m. ET 3/25/24.

Docket Numbers: ER24-1398-000.

Applicants: Southwest Power Pool, Inc.

Description: 205(d) Rate Filing: 1067R13 East Texas Electric Cooperative NITSA and NOA to be effective 2/1/2024.

Filed Date: 3/4/24.

Accession Number: 20240304-5089.

Comment Date: 5 p.m. ET 3/25/24.

Docket Numbers: ER24-1399-000.

Applicants: Idaho Power Company.

Description: Idaho Power Company submits Request for Waiver of certain sections of the Large Generator Interconnection Procedures to its Open Access Transmission Tariff to allow for the implementation of the October 2, 2023, Order.

Filed Date: 2/29/24.

Accession Number: 20240229-5349.

Comment Date: 5 p.m. ET 3/11/24.

Docket Numbers: ER24-1401-000.

Applicants: MATL LLP.

Description: 205(d) Rate Filing: 50 MW TSR with Macquarie Filing to be effective 5/4/2024.

Filed Date: 3/4/24.

Accession Number: 20240304-5112.

Comment Date: 5 p.m. ET 3/25/24.

Docket Numbers: ER24-1403-000.

Applicants: Arizona Public Service Company.

Description: 205(d) Rate Filing: Market-Based Rate Tariff Revision to be effective 5/4/2024.

Filed Date: 3/4/24.

Accession Number: 20240304-5153.

Comment Date: 5 p.m. ET 3/25/24.

Docket Numbers: ER24-1404-000.

Applicants: MPower Energy NJ LLC.

Description: Baseline eTariff Filing: MPE_NJ_FERC_Application to be effective 4/3/2024.

Filed Date: 3/4/24.

Accession Number: 20240304-5154.

Comment Date: 5 p.m. ET 3/25/24.

Take notice that the Commission received the following electric securities filings:

Docket Numbers: ES24-24-000.

Applicants: Jersey Central Power & Light Company.

Description: Supplement to Application Under Section 204 of the Federal Power Act for Authorization to Issue Securities of Jersey Central Power & Light Company.

Filed Date: 3/4/24.

Accession Number: 20240304-5178.

Comment Date: 5 p.m. ET 3/14/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 4, 2024.
Debbie-Anne A. Reese,
Acting Secretary.

[FR Doc. 2024-05023 Filed 3-8-24; 8:45 am]

BILLING CODE 6717-01-P